DEPARTMENT OF COMMERCE

Census Bureau

Proposed Information Collection; Comment Request; 2021 Government Units Survey

AGENCY: U.S. Census Bureau, Commerce.

ACTION: Notice.

SUMMARY: The Department of Commerce, as part of its continuing effort to reduce paperwork and respondent burden, invites the general public and other Federal agencies to take this opportunity to comment on a proposed reinstatement of the Government Units Survey, as required by the Paperwork Reduction Act of 1995.

DATES: To ensure consideration, written comments must be submitted on or before April 14, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2020-0002, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Joy P. Pierson by phone at 301-763-7196 or by email at Joy.P.Pierson@census.gov and Amber Hennessy at Amber.L.Hennessy@census.gov.

SUPPLEMENTARY INFORMATION:

I. Abstract

Title 13, Section 161 of the United States Code requires the Secretary of Commerce to conduct a Census of Governments every five years, in years ending in “2” and “7”. Section 193 provides for the collection of preliminary and supplementary statistics as related to the main topic of the census. The Census of Governments publishes unit counts and legal descriptions as well as employment and finance data for all county, municipal, township, school district, and special district governments in the United States. Prior to conducting the Census of Governments, it is necessary to ensure that the universe of all governments is as accurate and up to date as possible. The Government Units Survey (GUS) is conducted the year prior to the full Census of Governments collection operation and is used to evaluate and update the universe of all local and special district governments. Public sector surveys draw their sampling frames from this universe.

The 2021 GUS will target townships, special districts, independent school districts, and educational service authorities (ESA). The GUS is particularly beneficial for identifying smaller units that have not been included in surveys in-between census years and identifying changes to the universe of special district governments that experience substantial change in a five-year period. The GUS contributes to the quality and timely releases of the other components of the Census of Governments.

The 2021 GUS consists of yes/no type questions and checkbox selection questions designed to determine whether a government unit is in operation and verify contact information. Other questions collect information about a unit's function, legal organization, and other characteristics. The 2021 GUS estimated time to respond is 15 minutes which is the same as the 2016 GUS. The 2021 GUS is designed to diminish unnecessary burden, and to collect information essential for maintaining the government universe.

The scope for 2021 GUS collections is scaled back in comparison to the 2016 GUS collection operation. For greater efficiency, the 2021 GUS intends to collect information only from government units for which this information is difficult to obtain via other methods, such as internet research. There are a number of governments, particularly special district governments, for which information has not been collected since the 2017 Census of Governments. It is necessary to determine if these governments still exist. The GUS obtains information that can be difficult to verify conclusively through regular internet research, as many states do not provide this information for free via online tools. It is necessary to verify and update this information prior to mailing the Employment and Finance components of the 2022 Census of Governments. GUS information also assists the Census Bureau with maintaining accurate classification of all local and special district governments.

II. Method of Collection

Respondents will receive emails and letters about completing the GUS via the internet. The GUS collection instrument will be available online to respondents in February 2021. The website is secure, and respondents will receive a unique user identification and password for login. A toll-free number will be provided to respondents, which they may call to obtain assistance.

III. Data

OMB Control Number: 0607-0930.

Form Number(s): The GUS will utilize an electronic collection instrument and have four paths based on the type of respondent.

Type of Review: Regular submission.

Affected Public: Public sector entities consisting of townships; special districts; independent school districts; and educational service authorities in the U.S.

Estimated Number of Respondents: 43,454.

Estimated Time per Response: 15 minutes.

Estimated Total Annual Burden Hours: 10,864.

Estimated Total Annual Cost to Public: $0. (This is not the cost of respondents' time, but the indirect costs respondents may incur for such things as purchases of specialized software or hardware needed to report, or expenditures for accounting or records maintenance services required specifically by the collection.).

Respondent's Obligation: Voluntary.

Legal Authority: Title 13 U.S.C., Sections 161 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-02660 Filed 2-13-20; 8:45 am]

BILLING CODE 3510-07-P